DEPARTMENT OF VETERANS AFFAIRS

Veterans' Family, Caregiver, and Survivor Advisory Committee, Notice of Meeting, Amended

The Department of Veterans Affairs (VA) gives notice under the Federal Advisory Committee Act (FACA) that the Veterans' Family, Caregiver, and Survivor Advisory Committee will meet virtually on March 25, 2020. The meeting sessions will begin and end as follows:

Date | Time
March 25, 2020 | 9:00 a.m. to 11:30 a.m. EST.

The meetings are open to the public. Members of the public can attend the meeting via teleconference (800) 767-1750 access code 64895#.

The purpose of the Committee is to advise the Secretary of Veterans Affairs on matters related to: The need of Veterans' families, caregivers, and survivors across all generations, relationships, and Veterans status; the use of VA care, benefits and memorial services by Veterans' families, caregivers, and survivors, and opportunities for improvements to the experience using such services; VA policies, regulations, and administrative requirements related to the transition of Servicemembers from the Department of Defense (DoD) to enrollment in VA that impact Veterans' families, caregivers, and survivors; and factors that influence access to, quality of, and accountability for services, benefits and memorial services for Veterans' families, caregivers, and survivors.

On March 25, the agenda will include opening remarks from the Committee Chair and the Chief Veterans Experience Officer. There will be updates on Program of Comprehensive Assistance for Family Caregivers, and caregiver research conducted by the Elizabeth Dole Foundation.

Individuals wishing to share information with the Committee should contact Ms. Toni Bush Neal (Alternate Designated Federal Official) at VEOFACA@va.gov to submit a 1-2 page summary of their comments for inclusion in the official meeting record.

Any member of the public seeking additional information should contact Betty Moseley Brown (Designated Federal Official) at Betty.MoseleyBrown@va.gov or (210) 392-2505.

Dated: March 12, 2020.
Jelessa M. Burney,
Federal Advisory Committee Management Officer.

[FR Doc. 2020-05574 Filed 3-17-20; 8:45 am]

BILLING CODE 8320-01-P